FEDERAL COMMUNICATIONS COMMISSION

[IB Docket No. 04-286; DA 09-1585]

Third Meeting of the Advisory Committee for the 2011 World Radiocommunication Conference

AGENCY: Federal Communications Commission.

ACTION: Notice.

SUMMARY: In accordance with the Federal Advisory Committee Act, this notice advises interested persons that the third meeting of the WRC-11 Advisory Committee will be held at the Federal Communications Commission. The purpose of the meeting is to continue preparations for the 2011 World Radiocommunication Conference. The Advisory Committee will consider any preliminary views introduced by the Advisory Committee's Informal Working Groups.

DATES: September 1, 2009; 11 a.m. to 12 noon.

ADDRESSES: Federal Communications Commission, 445 12th Street, SW., Room TW-C305, Washington DC 20554.

FOR FURTHER INFORMATION CONTACT: Alexander Roytblat, Designated Federal Official, WRC-11 Advisory Committee, FCC International Bureau, Strategic Analysis and Negotiations Division, at (202) 418-7501.

SUPPLEMENTARY INFORMATION: The Federal Communications Commission (FCC) established the WRC-11 Advisory Committee to provide advice, technical support and recommendations relating to the preparation of United States proposals and positions for the 2011 World Radiocommunication Conference (WRC-11). In accordance with the Federal Advisory Committee Act, Public Law 92-463, as amended, this notice advises interested persons of the third meeting of the WRC-11 Advisory Committee. The WRC-11 Advisory Committee has an open membership. All interested parties are invited to participate in the Advisory Committee and to attend its meetings. The proposed agenda for the third meeting is as follows:

Agenda

Third Meeting of the WRC-11 Advisory Committee, Federal Communications Commission, 445 12th Street, SW., Room TW-C305, Washington, DC 20554, September 1, 2009; 11 a.m. to 12 noon.

1. Opening Remarks.

2. Approval of Agenda.

3. Approval of the Minutes of the Second Meeting.

4. IWG Reports and Documents Relating to Preliminary Views.

5. Future Meetings.

6. Other Business.

Federal Communications Commission.
John Giusti,
Acting Chief, International Bureau.

[FR Doc. E9-18730 Filed 8-5-09; 8:45 am]

BILLING CODE 6712-01-P